DEPARTMENT OF COMMERCE

International Trade Administration

[C-821-825]

Phosphate Fertilizers From the Russian Federation: Final Results of Countervailing Duty Administrative Review; 2022

AGENCY: Enforcement and Compliance, International Trade Administration, Department of Commerce.

SUMMARY: The U.S. Department of Commerce (Commerce) determines that Joint Stock Company Apatit (JSC Apatit), a producer/exporter of phosphate fertilizers from the Russian Federation (Russia), received countervailable subsidies during the period of review (POR), January 1, 2022, through December 31, 2022.

DATES: Applicable November 12, 2024.

FOR FURTHER INFORMATION CONTACT: Shane Subler or William Horn, AD/CVD Operations, Office VIII, Enforcement and Compliance, International Trade Administration, U.S. Department of Commerce, 1401 Constitution Avenue NW, Washington, DC 20230; telephone: (202) 482-6241 or (202) 482-4868, respectively.

SUPPLEMENTARY INFORMATION:

Background

Commerce published the preliminary results of this administrative review on May 4, 2024.¹ On July 22, 2024, Commerce tolled certain deadlines in this administrative proceeding by seven days.² On August 13, 2024, Commerce extended the deadline for the final results of this administrative review until November 5, 2024.³ For a description of the events that occurred since the Preliminary Results, see the Issues and Decision Memorandum.⁴ We conducted this review in accordance with section 751 of the Tariff Act of 1930, as amended (the Act).

¹ See Phosphate Fertilizers from the Russian Federation: Preliminary Results and Partial Rescission of the Countervailing Duty Administrative Review; 2022, 89 FR 35794 (May 4, 2024) (Preliminary Results), and accompanying Preliminary Decision Memorandum (PDM).

² See Memorandum, “Tolling of Deadlines for Antidumping and Countervailing Duty Proceedings,” dated July 22, 2024.

³ See Memorandum, “Extension of Deadline for Final Results of Countervailing Duty Administrative Review,” dated August 13, 2024.

⁴ See Memorandum, “Issues and Decision Memorandum for the Final Results of the Countervailing Duty Administrative Review of Phosphate Fertilizers from the Russian Federation; 2022,” dated concurrently with, and hereby adopted by, this notice (Issues and Decision Memorandum).

Scope of the Order ⁵

⁵ See Phosphate Fertilizers from the Kingdom of Morocco and the Russian Federation: Countervailing Duty Orders, 86 FR 18037 (April 7, 2021) (Order).

The products covered by this Order are phosphate fertilizers. For a complete description of the scope of this Order, see the Issues and Decision Memorandum.

Analysis of Comments Received

All issues raised in interested parties' case briefs are addressed in the Issues and Decision Memorandum accompanying this notice. A list of the issues raised by parties, and to which Commerce responded in the Issues and Decision Memorandum, is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, and for the reasons explained in the Issues and Decision Memorandum, we made certain revisions to the subsidy calculations for JSC Apatit. These changes are explained in the Issues and Decision Memorandum.

Final Results of Administrative Review

In accordance with 19 CFR 351.221(b)(4)(i), we calculated an individual net countervailable subsidy rate for JSC Apatit. Commerce determines that, during the POR, the net countervailable subsidy rate for the company under review is as follows:

Company | Subsidy rate (percent ad valorem)
Joint Stock Company Apatit ⁶ | 18.21

Disclosure

⁶ As discussed in the Preliminary Results PDM, Commerce finds the following companies to be cross-owned with JSC Apatit: PhosAgro Public Joint Stock Company; Limited Liability Company PhosAgro-Region; Limited Liability Company PhosAgro-Belgorod; Limited Liability Company PhosAgro-Don; Limited Liability Company PhosAgro-Kuban; Limited Liability Company PhosAgro-Lipetsk; Limited Liability Company PhosAgro-Kursk; Limited Liability Company PhosAgro-Orel; Limited Liability Company PhosAgro-Stavropol; Limited Liability Company PhosAgro-Volga; Limited Liability Company PhosAgro-SeveroZapad; Limited Liability Company PhosAgro-Tambov; and Limited Liability Company PhosAgro-Sibir. See Preliminary Results PDM at 7-8.

Commerce intends to disclose the calculations performed for these final results of review within five days of the date of publication of this notice in the Federal Register, in accordance with 19 CFR 351.224(b).

Assessment Rate

Pursuant to section 751(a)(2)(C) of the Act and 19 CFR 351.212(b)(2), Commerce has determined, and U.S. Customs and Border Protection (CBP) shall assess, countervailing duties on all appropriate entries of subject merchandise in accordance with the final results of this review, for the above-listed company at the applicable ad valorem assessment rate. We intend to issue assessment instructions to CBP no earlier than 35 days after the date of publication of the final results of this review in the Federal Register. If a timely summons is filed with the U.S. Court of International Trade, the assessment instructions will direct CBP not to liquidate relevant entries until the time for parties to file a request for a statutory injunction has expired (i.e., within 90 days of publication).

Cash Deposit Rates

In accordance with section 751(a)(1) of the Act, Commerce intends to instruct CBP to collect cash deposits of estimated countervailing duties in the amount shown for JSC Apatit on shipments of the subject merchandise entered, or withdrawn from warehouse for consumption on or after the date of publication of the final results of this administrative review. For all nonreviewed firms, we will instruct CBP to continue to collect cash deposits of estimated countervailing duties at the all-others rate or the most recent company-specific rate applicable to the company, as appropriate The cash deposit requirement, effective upon the publication of the final results of this review, shall remain in effect until further notice.

Administrative Protective Order

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

These final results are issued and published in accordance with sections 751(a)(1) and 777(i)(1) of the Act, and 19 CFR 351.221(b)(5).

Dated: November 5, 2024.
Abdelali Elouaradia,
Deputy Assistant Secretary for Enforcement and Compliance.

Appendix

List of Topics Discussed in the Issues and Decision Memorandum

I. Summary

II. Background

III. Scope of the Order

IV. Use of Facts Otherwise Available and Adverse Inferences

V. Subsidies Valuation

VI. Analysis of Programs

VII. Discussion of the Issues

Provision of Mining Rights for Less Than Adequate Remuneration (LTAR)

Comment 1a: Whether Commerce Selected a Benchmark Reflective of Prevailing Market Conditions and Consistent with Market Principles

Comment 1b: Whether Eurostat Data Are the Most Representative Benchmark Data Available to Commerce

Comment 1c: Whether Commerce Should Expand Its Selected Data to Calculate a More Representative Benchmark If It Continues to Use Global Trade Atlas (GTA) Data

Comment 1d: Whether Commerce Should Include All Exports from South Africa in Its Benchmark

Comment 1e: Whether Commerce Should Account for Additional Expenses Incurred in the Production and Sale of Phosphate Rock When Calculating a Profit Ratio

Comment 1f: Whether Commerce Should Countervail Mining Licenses Obtained Prior to the April 1, 2002, Cut-Off Date

Provision of Natural Gas for LTAR

Comment 2a: Whether Commerce Should Reject Kazakh Export Data as a Natural Gas Benchmark and Use European International Energy Agency (IEA) Data Instead

Comment 2b: Whether Commerce Should Countervail JSC Apatit's Natural Gas Purchases from Independent Suppliers

Comment 2c: Whether the Provision of Natural Gas is Specific

Other Program-Specific Issues

Comment 3: Whether Commerce Properly Determined that the Vologda Region's Support of Industrial Development (SID) Program Is De Facto Specific

Comment 4: Whether Commerce Erred in Its Selection of a Benchmark for One of JSC Apatit's Loans Under the Corporate Competitiveness Improvement Program (CCIP)

VIII. Recommendation

[FR Doc. 2024-26179 Filed 11-8-24; 8:45 am]

BILLING CODE 3510-DS-P